NATIONAL TRANSPORTATION SAFETY BOARD

Sunshine Act Meeting

TIME AND PLACE: 9:30 a.m., Tuesday, December 11, 2001.

PLACE: NTSB Conference Center, 429 L'Enfant Plaza SW., Washington, DC 20594.

STATUS: The two items are Open to the Public.

MATTERS TO BE CONSIDERED:

7413—Railroad Special Investigation Report—Maryland Transit Administration Light Rail Vehicle Accidents at the Baltimore-Washington International Airport Transit Station near Baltimore, Maryland, February 13 and August 15, 2000.

7415—Highway Accident Report—Collison of CSX Freight Train and Murray County School District School Bus at Railroad/Highway Grade Crossing in Conasauga, Tennessee, on March 28, 2000.

News Media Contact: Telephone: (202) 314-6100.

Individuals requesting specific accommodations should contact Ms. Carolyn Dargan at (202) 314-6305 by Friday, December 7, 2001.

FOR MORE INFORMATION CONTACT: Vicky D O'Onofrio, (202) 314-6410.

Dated: November 30, 2001.
Vicky D' Onofrio,
Federal Register Liaison Officer.

[FR Doc. 01-30178 Filed 11-30-01; 2:57 pm]

BILLING CODE 7533-01-M